DEPARTMENT OF TRANSPORTATION

National Highway Traffic Safety Administration

[Docket No. NHTSA-2007-28769; Notice 1]

Ford Motor Company, Receipt of Petition for Decision of Inconsequential Noncompliance

Ford Motor Company (Ford) has determined that certain motor vehicle replacement equipment that it sold prior to May 17, 2007 did not comply with paragraphs S4.1(k) and S4.1(l) of 49 CFR 571.209, Federal Motor Vehicle Safety Standard (FMVSS) No. 209 Seat Belt Assemblies. FORD has filed an appropriate report pursuant to 49 CFR part 573, Defect and Noncompliance Responsibility and Reports.

Pursuant to 49 U.S.C. 30118(d) and 30120(h), FORD has petitioned for an exemption from the notification and remedy requirements of 49 U.S.C. Chapter 301 on the basis that this noncompliance is inconsequential to motor vehicle safety.

This notice of receipt of FORD's petition is published under 49 U.S.C. 30118 and 30120 and does not represent any agency decision or other exercise of judgment concerning the merits of the petition.

Affected are approximately 180,603 seat belt replacement assemblies for 2000-2004 model year Ford Focus passenger cars and 191,352 service seat belt assemblies for 2001-2004 model year Ford Escape multipurpose passenger vehicles. The assemblies for the Focus passenger cars were sold from July 1999 through May 17, 2007, and the assemblies for the Escape multipurpose passenger vehicles were sold from June 2000 through April 18, 2007. Paragraphs S4.1(k) and S4.1(l) of FMVSS No. 209 require:

(k) Installation instructions. A seat belt assembly, other than a seat belt assembly installed in a motor vehicle by an automobile manufacturer, shall be accompanied by an instruction sheet providing sufficient information for installing the assembly in a motor vehicle. The installation instructions shall state whether the assembly is for universal installation or for installation only in specifically stated motor vehicles, and shall include at least those items specified in SAE Recommended Practice J800c, “Motor Vehicle Seat Belt Installations,” November 1973. If the assembly is for use only in specifically stated motor vehicles, the assembly shall either be permanently and legibly marked or labeled with the following statement, or the instruction sheet shall include the following statement:

This seat belt assembly is for use only in [insert specific seating position(s), e.g., “front right”] in [insert specific vehicle make(s) and model(s)].

(l) Usage and maintenance instructions. A seat belt assembly or retractor shall be accompanied by written instructions for the proper use of the assembly, stressing particularly the importance of wearing the assembly snugly and properly located on the body, and on the maintenance of the assembly and periodic inspection of all components. The instructions shall show the proper manner of threading webbing in the hardware of seat belt assemblies in which the webbing is not permanently fastened. Instructions for a nonlocking retractor shall include a caution that the webbing must be fully extended from the retractor during use of the seat belt assembly unless the retractor is attached to the free end of webbing which is not subjected to any tension during restraint of an occupant by the assembly. Instructions for Type 2a shoulder belt shall include a warning that the shoulder belt is not to be used without a lap belt.

Ford explains that the subject seat belt assemblies were sold in the United States and federalized territories without the installation, usage, and maintenance instructions required by paragraphs in S4.1(k) and S4.1(l) of FMVSS 209.

Ford makes the argument that the service seat belt assemblies in question are only made available to Ford authorized dealerships for their use or subsequent resale and that the Ford parts ordering process used by Ford dealers clearly identifies the correct service part required by model year, model, and seating position. By way of example, Ford further explains that an order for a driver's-side front buckle assembly for a 2002 model year Focus would be filled by the components specifically designed to be installed in that particular position in that specific vehicle. This is because Ford's service seat belt assemblies are designed to be installed properly only in their intended application.

Ford additionally states that technicians at Ford dealerships that replace seat belts have access to the installation instruction information available in workshop manuals. Installers other than Ford dealership technicians also have seat belt installation information available because all workshop manual information, including seat belt replacement information, is made available to the general public on the Ford Motorcraft Web site and through aftermarket service information compilers such as Mitchell and Alldata.

Ford additionally argues that a significant portion of paragraph S4.1(k) appears to address a concern with proper installation of aftermarket seat belts into vehicles that were not originally equipped with these restraints. Ford also notes that SAE J800c which is cited in the regulation involves installation of “universal type seat belt assemblies,” particularly where no seat belt had previously been installed, and that these concerns do not apply to the service seat belts. The vehicles involved in the instant petition have uniquely designed seat belt components and replacement seat belt assemblies are installed into the identical location from which the original parts were removed.

Ford also states that proper seat belt usage instructions are clearly laid out in the Owner Guide that is included with each new vehicle. There are no requirements for scheduled maintenance on the seat belt assemblies in the subject vehicles. Information concerning periodic inspection for wear and function of the seat belts, as well as for their proper usage is included in the vehicle Owner Guide and this information applies as equally to service seat belt assemblies as it does to the original equipment belts. All Ford Owner Guides, including those for the 2000-2004 Focus and 2001-2004 Escape, are also available to the public, free of charge on the Ford Motorcraft Web site.

Ford is not aware of any customer or field reports of service seat belt assemblies being incorrectly installed in the subject applications as a result of installation instructions not accompanying the service part. Ford also is not aware of any reports requesting installation instructions, which it believes to be indicative of the availability of this information from the sources listed above.

In summation, FORD states that it has corrected the problem that caused these errors so that they will not be repeated in future production and that it believes that because the noncompliances are inconsequential to motor vehicle safety that no corrective action is warranted.

Interested persons are invited to submit written data, views, and arguments on this petition. Comments must refer to the docket and notice number cited at the beginning of this notice and be submitted by any of the following methods:

a. By mail addressed to: U.S. Department of Transportation, Docket Operations, M-30, West Building Ground Floor, Room W12-140, 1200 New Jersey Avenue, SE., Washington, DC 20590.

b. By hand delivery to U.S. Department of Transportation, Docket Operations, M-30, West Building Ground Floor, Room W12-140, 1200 New Jersey Avenue, SE., Washington, DC 20590. The Docket Section is open on weekdays from 10 a.m. to 5 p.m. except Federal Holidays.

c. Electronically: Until September 29, 2007, by logging onto the DOT Docket Management System Web site at http://dms.dot.gov after September 28, 2007, by logging onto the Federal Docket Management System Web site at http://www.regulations.gov/. Follow the online instructions for submitting comments. Comments may also be faxed to 1-202-493-2251.

The petition, supporting materials, and all comments received before the close of business on the closing date indicated below will be filed and will be considered. All comments and supporting materials received after the closing date will also be filed and will be considered to the extent possible. When the petition is granted or denied, notice of the decision will be published in the Federal Register pursuant to the authority indicated below.

Comment closing date: November 5, 2007.

Authority: 49 U.S.C. 30118, 30120: delegations of authority at CFR 1.50 and 501.8.

Issued on: September 27, 2007.
Harry Thompson,
Acting Director, Office of Vehicle Safety Compliance.

[FR Doc. E7-19606 Filed 10-3-07; 8:45 am]

BILLING CODE 4910-59-P